DEPARTMENT OF HEALTH AND HUMAN SERVICES

Health Resources and Services Administration

Agency Information Collection Activities: Proposed Collection: Public Comment Request; Information Collection Request Title: HRSA Ryan White HIV/AIDS Program Part F National AIDS Education and Training Center Program Activities, OMB No. 0906-XXXX New

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than July 18, 2025.

ADDRESSES: Submit your comments to paperwork@hrsa.gov or mail the HRSA Information Collection Clearance Officer, Room 14NWH04, 5600 Fishers Lane, Rockville, Maryland, 20857.

FOR FURTHER INFORMATION CONTACT: To request more information on the proposed project or to obtain a copy of the data collection plans and draft instruments, email paperwork@hrsa.gov or call Joella Roland, the HRSA Information Collection Clearance Officer, at (301) 443-3983.

SUPPLEMENTARY INFORMATION: When submitting comments or requesting information, please include the ICR title for reference.

Information Collection Request Title: HRSA Ryan White HIV/AIDS Program Part F National AIDS Education and Training Center Program Activities, OMB No. 0906-xxxx—New

Abstract: The Ryan White HIV/AIDS Program's (RWHAP) AIDS Education and Training Center (AETC) Program, authorized under title XXVI of the Public Health Service Act, supports a network of national centers that conduct targeted, multi-disciplinary education and training programs for health care providers treating people with HIV. The RWHAP National AETC Program's purpose is to increase the number of health care providers who are effectively educated to counsel, diagnose, treat, and medically manage people with HIV. The national AETC Program comprises five distinct centers: (1) National AIDS Education and Training Center Support Center (NASC), (2) National Clinician Consultation Center (NCCC), (3) National HIV Curriculum (NHC) e-Learning Platform, (4) Integrating the National HIV Curriculum e-Learning Platform into Health Care Professions (NHC-IP) Programs, and (5) HIV Clinical Training Tracks for Primary Care Residents (HTR).

NCCC provides expert guidance to clinicians on HIV testing, prevention (e.g., pre- and post-exposure prophylaxis/), treatment, hepatitis coinfections, perinatal HIV care, and substance use management through a national toll-free call center staffed by HIV experts. NHC offers comprehensive e-learning modules and tools for HIV prevention, diagnosis, and care, while providing free continuing education credits and resources for healthcare providers. NHC-IP focuses on incorporating HIV training into medical, nursing, and pharmacy curricula to prepare future healthcare professionals. The HTR initiative develops HIV-focused tracks within primary care residency programs, and NASC supports workforce training and resource coordination for the AETC Program to enhance HIV care delivery.

The RWHAP National AETC Program recipients have extensive reach to the HIV workforce. For example, from 2022-2023, NCCC supported 8,433 callers; NASC website had over 57,286 users; NASC had 355 registrants for the RWHAP Clinical Conference; NHC engaged 14,260 individuals through online curriculum and learning modules; and Integrating the NHC-IP supported 178 students and 12 faculty (“students and faculty” is also referred in this document as SF). The HTR program is new as of 2024, so data is not yet available. The RWHAP National AETC Program recipients are now required to report data on training activities and trainees to HRSA once a year; they were not required to report data to HRSA's HIV/AIDS Bureau previously.

HRSA is requesting the approval of new AETC data collection forms to obtain more accurate data relating to National AETC activities, participants, and site information for all National recipients (NASC, NCCC, NHC, NHC-IP, and HTR). In addition, these forms will capture National AETC involvement in the HIV care and treatment workforce (1-year post-participation in an HTR), knowledge gained through participating in an AETC activity, and satisfaction with that activity. Given the distinct functions of each center, it is essential to develop tailored forms specific to each center's respective activities and its participants. Each center will be required to submit no more than five forms (see table 1 below). Different forms are necessary to accommodate the distinct activities and focus areas of each center. To ensure accurate and comprehensive data collection, these forms must be customized to meet the specific needs of each national center. A brief description of each form follows.

• The National Individual Participant Record (National IND-PAR) is completed at least once every reporting period by participants actively engaging in NASC, NHC, and HTR AETC activities. This form includes NASC, NHC, and HRT AETC participant demographic, workplace, and client-served data for the respective recipient. The IND-PAR is broken up into sections (NASC/all, NHC, and HTR) so that recipients can tailor the form to include the relevant questions (e.g., NHC would include questions from the “NASC/all” section as well as the NHC section).

• The NCCC IND-PAR is completed at least once every reporting period by NCCC callers. This form is shorter as it is only administered orally to those who call into NCCC.

• The Training Activity Record (National TAR) is completed at the end of each National AETC activity that takes place during the reporting period and is completed only by NASC, NHC, and NCCC national recipients. This form describes the activity in hours, modality, and topic(s).

• There are many Participant Post-Activity Surveys (PPA) to be answered by recipients and activity-specific participants. Specifically, the NASC-RWHAP-PPA is for participants of the RWHAP Clinical Conference to complete post-attendance; the HTR-SF-PPA is for students and faculty of HTR programs to complete post-participation; the NCCC-PPA will be administered orally and is for NCCC callers; the NHC-PPA is for registered learners of NHC after completing a self-study lesson or question bank topic from NHC; and the NHC-SF-PPA is for students and faculty of NHC-IPs to complete at the end of any course in which the NHC has been integrated. These forms collect information from participants immediately upon completion of an activity hosted by a national AETC.

• The NHC-IP Health Profession Program Characteristics/Outcomes Form (NHC-IP-HC) collects descriptive NHC Health Profession Program-level data for programs that integrate NHC into their curricula.

• The HTR Program Characteristics/Outcomes Form (HTR-PC) collects descriptive HRT-level data for all HTR programs, such as number of residents trained by profession/discipline during the reporting period.

• The HTR Long-Term form collects 1-year post-participation information only from HTR resident participants who engaged in an HTR program that trains primary care providers who are likely to practice in communities most impacted and at-risk for HIV.

• There are some forms that will be used to collect web-analytic information related to the NASC website (i.e., NASC Web Analytics Form), NHC website (i.e., NHC Training Utilization and Web Analytics Form), and related to consultation call topics discussed (i.e., NCCC Tele-Consultation Utilization Form).

Table 1—National AETCs Summary of Forms by Recipient
Form/tool name | NASC | NCCC | NHC | NHC-IP | HTR
National Individual Participant Record | X |  | X | X | X
NCCC Individual Participant Record |  | X |  |  |
National Training Activity Record | X | X | X |  |
NASC Web Analytics | X |  |  |  |
NCCC Tele-consultation Utilization Form |  | X |  |  |
NHC Training Utilization and Web Analytics |  |  | X |  |
NHC Health Profession Program Characteristics and Outcomes |  |  |  | X |
HTR Program Characteristics |  |  |  |  | X
HTR Long-Term |  |  |  |  | X
NASC Web Participant Post-Activity Survey | X |  |  |  |
NASC RWHAP Participant Post-Activity Survey | X |  |  |  |
NCCC Participant Post-Activity Survey |  | X |  |  |
NHC Participant Post-Activity Survey |  |  | X |  |
NHC Student/Faculty Participant Post-Activity Survey |  |  |  | X |
HTR Student/Faculty Participant Post-Activity Survey |  |  |  |  | X
Total forms per National AETC Recipient | 5 | 4 | 4 | 3 | 4
All forms for the national AETC package by national center recipient, some forms may be used by multiple recipients.

Need and Proposed Use of the Information: HRSA uses the data collected when conducting RWHAP AETC programmatic assessments to determine future program needs and program progress towards its objectives. These data allow HRSA to identify where gaps exist in training HIV professionals as well as to measure whether training activities are meeting the goals of the National HIV/AIDS Strategy and the RWHAP statute.

Likely Respondents: RWHAP National AETC participants who attend activities hosted by NASC, NCCC, NHC, and HTR complete the Individual Participant Record at least once a reporting period (July 1-June 30). NASC and NCCC AETC recipients complete a Training Activity Record for each training activity they conduct during the reporting period. Participants who engage in recipient-specific activities will take the activity-specific Participant Post-Activity Survey (e.g., participants of the RWHAP Clinical Conference will take the NASC-RWHAP-PPA). Resident participants in the HTR program will complete the HTR Long-Term form 1-year post-participation in the program. Finally, the NHC-IP recipients will complete the NHC-IP Health Profession Program Characteristics/Outcomes at least once per reporting period, and HTR recipients will complete the HTR Program Characteristics/Outcomes form at least once per reporting period.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below. Due to the unique nature of the national AETCs, an additional column titled “Type of Respondent” was added to the table to indicate which national center respondent would be using the form in question. A form may be listed more than once because the form itself has recipient/respondent-specific sections. Providing this additional information allows the burden estimates to be more accurate to the respondent.

Total Estimated Annualized Burden Hours
Form/tool name | Type of respondent or recipient | Number of respondents/rows | Number of responses per recipient | Total responses | Average burden per response (in hours) | Total burden hours
National TAR | NASC | 1 | 1 | 1 | 0.21 | 0.21
NASC-Web | NASC | 1 | 1 | 1 | 2.00 | 2.00
National IND-PAR | NASC participants | 60,000 | 1 | 60,000 | 0.27 | 16,200.00
NASC-Web-PPA | NASC participants | 200 | 1 | 200 | 0.06 | 12.00
NASC-RWHAP-PPA | NASC attendants of RWHAP Clinical Conference | 400 | 1 | 400 | 0.06 | 24.00
Combined Data Set | NHC | 1 | 1 | 1 | 64.00 | 64.00
NASC Total |  | 60,603 | 6 | 60,603 | 66.60 | 16,302.21
National TAR | NCCC | 50 | 1 | 50 | 0.21 | 10.50
NCCC Tele-Consultation Utilization Form | NCCC | 1 | 1 | 1 | 1.00 | 1.00
NCCC IND-PAR | NCCC Participants | 10,000 | 1 | 10,000 | 0.15 | 1,500.00
NCCC-PPA | NCCC participant callers | 10,000 | 1 | 10,000 | 0.06 | 600.00
Combined Data Set | NCCC | 1 | 1 | 1 | 64.00 | 64.00
NCCC Total |  | 20,052 | 5 | 20,052 | 65.42 | 2,175.50
NHC-Web | NHC | 1 | 1 | 1 | 1.00 | 1.00
National TAR | NHC | 1 | 1 | 1 | 0.21 | 0.21
National IND-PAR | NHC participants | 16,000 | 1 | 16,000 | 0.27 | 4,320.00
NHC-PPA | NHC participants | 16,000 | 1 | 16,000 | 0.06 | 960.00
Combined Data Set | NHC | 1 | 1 | 1 | 64.00 | 64.00
NHC Total |  | 32,003 | 5 | 32,003 | 65.54 | 5,345.21
National IND-PAR | NHC-IP students and faculty | 25 | 10 | 250 | 0.27 | 67.50
NHC-HC | NHC-IP | 1 | 10 | 10 | 0.31 | 3.10
NHC-IP-SF-PPA | NHC-IP students and faculty | 25 | 10 | 250 | 0.06 | 15.00
Combined Data Set | NHC-IP | 10 | 1 | 10 | 64.00 | 640.00
NHC-IP Total |  | 61 | 31 | 520 | 64.64 | 725.60
HTR-PC | HTR | 1 | 4 | 4 | 0.09 | 0.36
National IND-PAR | HTR residents | 200 | 4 | 800 | 0.27 | 216.00
HTR-SF-PPA | HTR residents and faculty | 200 | 4 | 800 | 0.06 | 48.00
HTR-SF-PPA | HTR residents and faculty | 200 | 4 | 800 | 0.06 | 48.00
Combined Data Set | HTR | 4 | 1 | 4 | 64.00 | 256.00
HTR Total |  | 605 | 17 | 2408 | 64.48 | 568.36
Total |  | 113,324 | 64 | 115,586 | 326.68 | 25,116.88

HRSA specifically requests comments on: (1) the necessity and utility of the proposed information collection for the proper performance of the agency's functions; (2) the accuracy of the estimated burden; (3) ways to enhance the quality, utility, and clarity of the information to be collected; and (4) the use of automated collection techniques or other forms of information technology to minimize the information collection burden.

Maria G. Button,
Director, Executive Secretariat.

[FR Doc. 2025-08823 Filed 5-16-25; 8:45 am]

BILLING CODE 4165-15-P